DEPARTMENT OF COMMERCE

Foreign-Trade Zones Board

[B-56-2016]

Foreign-Trade Zone (FTZ) 279—Terrebonne Parish, Louisiana; Authorization of Production Activity; Gulf Island Shipyards, LLC; (Shipbuilding); Houma, Louisiana

On August 19, 2016, Gulf Island Shipyards, LLC submitted a notification of proposed production activity to the Foreign-Trade Zones (FTZ) Board for its facility within FTZ 279, in Houma, Louisiana.

The notification was processed in accordance with the regulations of the FTZ Board (15 CFR part 400), including notice in the Federal Register inviting public comment (81 FR 60340-60341, September 1, 2016). The FTZ Board has determined that no further review of the activity is warranted at this time. The production activity described in the notification is authorized, subject to the FTZ Act and the Board's regulations, including Section 400.14, and subject to the following conditions:

(1) Any foreign steel mill products admitted to the zone for the Gulf Island Shipyards, LLC, activity, including plate, angles, shapes, channels, rolled steel stock, bars, pipes and tubes, not incorporated into merchandise otherwise classified, and which is used in manufacturing, shall be subject to full customs duties in accordance with applicable law, unless the Executive Secretary determines that the same item is not then being produced by a domestic steel mill.

(2) Gulf Island Shipyards, LLC, shall meet its obligation under 15 CFR 400.13(b) by annually advising the FTZ Board's Executive Secretary as to significant new contracts with appropriate information concerning foreign purchases otherwise dutiable, so that the FTZ Board may consider whether any foreign dutiable items are being imported for manufacturing in the zone primarily because of FTZ procedures and whether the FTZ Board should consider requiring customs duties to be paid on such items.

Dated: December 19, 2016.
Andrew McGilvray,
Executive Secretary.

[FR Doc. 2016-31402 Filed 12-27-16; 8:45 am]

BILLING CODE 3510-DS-P